DEPARTMENT OF ENERGY

Federal Energy Regulatory Commission

[Docket No. CP19-118-000]

Notice of Revised Schedule for Environmental Review of the Trans-Foreland Pipeline Company, LLC Kenai LNG Cool Down Project

This notice identifies the Federal Energy Regulatory Commission staff's revised schedule for the completion of the environmental assessment (EA) for Trans-Foreland Pipeline Company, LLC's (Trans-Foreland) Kenai LNG Cool Down Project. The first notice of schedule, issued on June 19, 2019, identified December 13, 2019 as the EA issuance date. In its October 2019 response to Commission staff's data requests, Trans-Foreland states that it will not file certain information until January 2020. Further, Commission staff also issued a follow-up data request to Trans-Foreland on December 9, 2019, requiring Trans-Foreland to clarify certain critical and complex information and address data gaps that were not addressed by Trans-Foreland in previous responses to staff data requests. As a result of Trans-Foreland's representations that this critical data will not be filed until sometime in January and the need for Commission staff and cooperating agencies to review this information, Commission staff has revised the schedule for issuance of the EA. The revised schedule for the EA is based upon Trans-Foreland providing complete responses to outstanding data requests in the timeframes it has identified and as requested in the December 9 data request.

Schedule for Environmental Review

Issuance of the EA April 24, 2020

90-day Federal Authorization Decision Deadline July 23, 2020

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-118), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 12, 2019.
Kimberly D. Bose,
Secretary.

[FR Doc. 2019-27319 Filed 12-18-19; 8:45 am]

BILLING CODE 6717-01-P